OFFICE OF MANAGEMENT AND BUDGET

Cumulative Report on Rescissions and Deferrals

June 1, 2002.

Section 1014(e) of the Congressional Budget and Impoundment Control Act of 1974 (Public Law 93-344) requires a monthly report listing all budget authority for the current fiscal year for which, as of the first day of the month, a special message had been transmitted to Congress.

This report gives the status, as of June 1, 2002, of two deferrals contained in one special message for FY 2002. The message was transmitted to Congress on May 3, 2002.

Deferrals (Attachments A and B)

On May 31, 2002, OMB reapportioned the two previously reported FY 2002 deferrals (D02-01 and D02-02) removing the deferral designations based on a recent analysis that determined that the funds do not meet the definition for deferrals contained in Pub. L. 93-344. There is no programmatic effect of these actions. Therefore, as of June 1, 2002, no funds are being deferred. Pursuant to Pub. L. 93-344, until such time as the President transmits a special message to Congress on subsequent rescission proposals or deferrals no cumulative reports are required to be transmitted to the Congress.

Information From Special Message

The special message containing information on the deferrals that are covered by this cumulative report is printed in the edition of the Federal Register cited below: 67 FR 34963, Thursday, May 16, 2002.

Mitchell E. Daniels, Jr.,
Director.

Attachments

Attachment A

Status of FY 2002 Deferrals
[In millions of dollars]
| Budgetary resources
Deferrals proposed by the President | 1,993.6
Routine Executive releases through June 1, 2002 | −840.8
Executive adjustment through June 1, 2002 | −1,152.8
Overturned by the Congress |
Currently before the Congress |

BILLING CODE 3110-01-P

[FR Doc. 02-15187 Filed 6-14-02; 8:45 am]

BILLING CODE 3110-01-C